DEPARTMENT OF THE INTERIOR

National Park Service

AGENCY: National Park Service, U.S. Department of the Interior.

ACTION: National Preservation Technology and Training Board—National Center for Preservation Technology and Training: meeting notice.

SUMMARY: Notice is hereby given in accordance with the Federal Advisory Committee Act (FACA) (5 U.S.C. Appendix (1988)), that the Preservation Technology and Training Board (PTTBoard) of the National Center for Preservation Technology and Training, National Park Service, will meet on Thursday and Friday, April 15-16, 2010 in Natchitoches, Louisiana.

The PTTBoard was established by Congress to provide leadership, policy advice, and professional oversight to the National Center for Preservation Technology and Training (NCPTT) in compliance with Section 404 of the National Historic Preservation Act of 1966, as amended, (16 U.S.C. 470x-2(e)).

The PTTBoard will meet at Lee H. Nelson Hall, the headquarters of NCPTT, at 645 University Parkway, Natchitoches, LA 71457—telephone (318) 356-7444. The meeting will run from 9 a.m. to 5 p.m. on April 15 and from 9 a.m. to 5 p.m. on April 16.

The PTTBoard's meeting agenda will include: review and comment on NCPTT FY2009 accomplishments and operational priorities for FY2010; FY2010 and FY2011 National Center budget and initiatives; the National Center's Sustainability and Preservation initiative; revitalization of the Friends of NCPTT; and training programs.

The PTTBoard meeting is open to the public. Facilities and space for accommodating members of the public are limited, however, persons will be accommodated on a first-come, first-served basis. Any member of the public may file a written statement concerning any of the matters to be discussed by the PTTBoard.

DATES: The Meeting Dates are: April 15-16, 2010, 9 a.m. to 5 p.m., Natchitoches, LA.

ADDRESSES: The meeting location is: NCPTT 645 University Parkway, Natchitoches, LA 71457.

SUPPLEMENTARY INFORMATION: Persons wishing more information concerning this meeting, or who wish to submit written statements, may contact: Mr. Kirk A. Cordell, Executive Director, National Center for Preservation Technology and Training, National Park Service, U.S. Department of the Interior, 645 University Parkway, Natchitoches, LA 71457—telephone (318) 356-7444. In addition to U.S. Mail or commercial delivery, written comments may be sent by fax to Mr. Cordell at (318) 356-9119. Before including your address, phone number, e-mail address, or other personal identifying information in your comment, you should be aware that your entire comment—including your personal identifying information—may be made publicly available at any time. While you can ask us in your comment to withhold your personal identifying information from public review, we cannot guarantee that we will be able to do so.

Minutes of the meeting will be available for public inspection no later than 90 days after the meeting at the office of the Executive Director, National Center for Preservation Technology and Training, National Park Service, U.S. Department of the Interior, 645 University Parkway, Natchitoches, LA 71457—telephone (318) 356-7444.

Dated: March 4, 2010.
Kirk A. Cordell,
Executive Director, National Center for Preservation Technology and Training, National Park Service.

[FR Doc. 2010-5517 Filed 3-12-10; 8:45 am]

BILLING CODE 4312-52-P